DEPARTMENT OF LABOR

Employment and Training Administration

[TA-W-71,174]

General Electric Company, Transportation Division, Erie, PA; Notice of Affirmative Determination Regarding Application for Reconsideration

By application dated October 28, 2009, the petitioners requested administrative reconsideration of the negative determination regarding workers' eligibility to apply for Trade Adjustment Assistance (TAA) applicable to workers and former workers of the subject firm. The determination was issued on October 8, 2009. The Notice of Determination will soon be published in the Federal Register.

The initial investigation resulted in a negative determination based on the finding that imports of locomotives, locomotive parts, marine and stationary engines, and various propulsion systems did not contribute importantly to worker separations at the subject firm. The investigation revealed that the subject firm did not shift production of locomotives, locomotive parts, marine and stationary engines, and various propulsion systems to foreign countries during the period under investigation.

In the request for reconsideration, the petitioner alleged that General Electric reduced employment levels at the subject facility as a direct result of shifts in production to Brazil, China and Kazakhstan.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 16th day of November 2009.
Elliott S. Kushner,
Certifying Officer, Division of Trade Adjustment Assistance.

[FR Doc. E9-29155 Filed 12-7-09; 8:45 am]

BILLING CODE 4510-FN-P